DEPARTMENT OF HOMELAND SECURITY

Federal Emergency Management Agency

[Docket ID FEMA-2013-0002; Internal Agency Docket No. FEMA-B-1303]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 3, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1303, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
Concord River Watershed
Worcester County and Middlesex County, Massachusetts (All Jurisdictions)
Maps Available for Inspection Online at: http://www.starr-team.com/starr/RegionalWorkspaces/RegionI/ConcordWatershed/
City of Lowell | City Hall, 375 Merrimack Street, Lowell, MA 01852.
City of Marlborough | City Hall, 140 Main Street, Marlborough, MA 01752.
Town of Acton | Town Hall, 472 Main Street, Acton, MA 01720.
Town of Ashland | Town Hall, 101 Main Street, Ashland, MA 01721.
Town of Bedford | Town Hall, 10 Mudge Way, Bedford, MA 01730.
Town of Berlin | Municipal Building, 23 Linden Street, Berlin, MA 01503.
Town of Billerica | Town Hall, 365 Boston Road, Billerica, MA 01821.
Town of Bolton | Town Hall, 663 Main Street, Bolton, MA 01740.
Town of Boxborough | Town Hall, 29 Middle Road, Boxborough, MA 01719.
Town of Boylston | Town Hall, 221 Main Street, Boylston, MA 01505.
Town of Carlisle | Town Hall, 66 Westford Drive, Carlisle, MA 01741.
Town of Chelmsford | Town Hall, 50 Billerica Road, Chelmsford, MA 01824.
Town of Clinton | Town Hall, 242 Church Street, Clinton, MA 01510.
Town of Concord | Planning and Development Building, 141 Keyes Road, Concord, MA 01742.
Town of Framingham | Town Hall, 150 Concord Street, Framingham, MA 01702.
Town of Harvard | Town Hall, 13 Ayer Road, Harvard, MA 01451.
Town of Holliston | Town Hall, 703 Washington Street, Holliston, MA 01746.
Town of Hopkinton | Town Hall, 18 Main Street, Hopkinton, MA 01748.
Town of Hudson | Town Hall, 78 Main Street, Hudson, MA 01749.
Town of Lincoln | Town Office, 16 Lincoln Road, Second Floor, Lincoln, MA 01773.
Town of Littleton | Town Office Building, 37 Shattuck Street, Littleton, MA 01460.
Town of Maynard | Town Hall, 195 Main Street, Maynard, MA 01754.
Town of Natick | Town Hall, 13 East Central Street, Natick, MA 01760.
Town of Northborough | Town Offices, 63 Main Street, Northborough, MA 01532.
Town of Sherborn | Town Hall, 19 Washington Street, Sherborn, MA 01770.
Town of Shrewsbury | Town Hall, 100 Maple Avenue, Shrewsbury, MA 01545.
Town of Southborough | Town House, 17 Common Street, Southborough, MA 01772.
Town of Stow | Town Hall, 380 Great Road, Stow, MA 01775.
Town of Sudbury | Flynn Building, 278 Old Sudbury Road, Sudbury, MA 01776.
Town of Tewksbury | Town Hall, 1009 Main Street, Tewksbury, MA 01876.
Town of Wayland | Town Hall, 41 Cochituate Road, Wayland, MA 01778.
Town of Westborough | Town Hall, 34 West Main Street, Westborough, MA 01581.
Town of Westford | Town Hall, 55 Main Street, Westford, MA 01886.
Upper Rock Watershed
Dodge County, Wisconsin, and Incorporated Areas
Maps Available for Inspection Online at: http://www.starr-team.com/starr/RegionalWorkspaces/RegionV/DodgeRockRiverWI
City of Beaver Dam | City Hall, 205 South Lincoln Avenue, Beaver Dam, WI 53916.
City of Columbus | City Hall, 105 North Dickason Boulevard, Columbus, WI 53925.
City of Hartford | City Hall, 109 North Main Street, Hartford, WI 53027.
City of Horicon | City Hall, 404 East Lake Street, Horicon, WI 53032.
City of Mayville | City Hall, 15 South School Street, Mayville, WI 53050.
City of Watertown | City Hall, 106 Jones Street, Watertown, WI 53094.
City of Waupun | City Hall, 201 East Main Street, Waupun, WI 53963.
Unincorporated Areas of Dodge County | Administrative Building, 127 East Oak Street, Juneau, WI 53039.
Village of Hustisford | Village Hall, 201 South Lake Street, Hustisford, WI 53034.
Village of Kekoskee | Village Hall, 21 Valley Street, Mayville, WI 53050.
Village of Lowell | Village Hall, 105 North River Street, Lowell, WI 53557.
Village of Neosho | Village Hall, 210 South Schuyler Street, Neosho, WI 53059.
Village of Reeseville | Village Hall, 206 South Main Street, Reeseville, WI 53579.
Village of Theresa | Village Hall, 202 South Milwaukee Street, Theresa, WI 53091.

(Catalog of Federal Domestic Assistance No. 97.022, “Flood Insurance.”)

Roy E. Wright,
Deputy Associate Administrator for Mitigation, Department of Homeland Security, Federal Emergency Management Agency.

[FR Doc. 2013-07813 Filed 4-3-13; 8:45 am]

BILLING CODE 9110-12-P